DEPARTMENT OF HEALTH AND HUMAN SERVICES

Centers for Disease Control and Prevention

Advisory Committee to the Director (ACD), Centers for Disease Control and Prevention: Teleconference

In accordance with section 10(a)(2) of the Federal Advisory Committee Act (Pub. L. 92-463), the Centers for Disease Control and Prevention (CDC) announces the aforementioned Advisory Committee meeting.

Time and Date: 4 p.m.-5 p.m. Eastern Standard Time, December 14, 2006.

Place: The conference call will originate at the Centers for Disease Control and Prevention, 1600 Clifton Road, Atlanta, GA 30333. Please see “Supplementary Information” for details on accessing the conference call.

Status: Open to the public, limited only by the availability of telephone ports.

Purpose: The committee will provide advice to the CDC Director on policy issues and broad strategies that will enable CDC, the Nation's prevention agency, to fulfill its mission of promoting health and quality of life by preventing and controlling disease, injury, and disability.

Matters To Be Discussed: The committee will review and discuss recommendations submitted by the Health Disparities Subcommittee, ACD and the Ethics Subcommittee, ACD. Agenda items are subject to change as priorities dictate.

Supplementary Information: This conference call is scheduled to begin at 4:00 p.m., Eastern Standard Time. To participate in the conference call, please dial 1-888-577-8993 and reference passcode “Public Health”.

As provided under 41 CFR 102-3.150(b), the public health urgency of this agency business requires that the meeting be held prior to the first available date for publication of this notice in the Federal Register.

Contact Person For More Information: Lynn Austin, PhD, Executive Secretary, Advisory Committee to the Director, CDC, 1600 Clifton Road, NE, M/S D-14, Atlanta, Georgia 30333. Telephone 404-639-7000.

The Director, Management Analysis and Services Office, has been delegated the authority to sign Federal Register notices pertaining to announcements of meetings and other committee management activities, for both CDC and the Agency for Toxic Substances and Disease Registry.

Dated: December 7, 2006.
Alvin Hall,
Director, Management Analysis and Services Office, Centers for Disease Control and Prevention.

[FR Doc. E6-21270 Filed 12-12-06; 8:45 am]

BILLING CODE 4163-18-P